ENVIRONMENTAL PROTECTION AGENCY

[EPA-HQ-OAR-2022-0449; FRL-10842-01-OMS]

Agency Information Collection Activities; Submission to the Office of Management and Budget for Review and Approval; Comment Request; GreenChill Advanced Refrigeration Partnership (Renewal)

AGENCY: Environmental Protection Agency (EPA).

ACTION: Notice.

SUMMARY: The Environmental Protection Agency (EPA) has submitted an information collection request (ICR), GreenChill Advanced Refrigeration Partnership (EPA ICR Number 2349.03, OMB Control Number 2060-0702) to the Office of Management and Budget (OMB) for review and approval in accordance with the Paperwork Reduction Act. This is a proposed extension of the ICR, which is currently approved through March 31, 2023. Public comments were previously requested via the Federal Register on August 24, 2022 during a 60-day comment period. This notice allows for an additional 30 days for public comments.

DATES: Comments may be submitted on or before April 26, 2023.

ADDRESSES: Submit your comments, referencing Docket ID Number EPA-HQ-OAR-2022-0449, to EPA online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Kersey Manliclic, Stratospheric Protection Divison—Office of Air and Radiation, (3204A) Environmental Protection Agency, 1200 Pennsylvania Ave. NW, Washington, DC 20460; telephone number: (202) 566-9981; email address: Manliclic.Kersey@epa.gov.

SUPPLEMENTARY INFORMATION: This is a proposed extension of the ICR, which is currently approved through March 31, 2023. An agency may not conduct or sponsor and a person is not required to respond to a collection of information unless it displays a currently valid OMB control number.

Public comments were previously requested via the Federal Register on August 24, 2022 during a 60-day comment period 87 FR 51978. This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: GreenChill is a voluntary partnership program sponsored by the U.S. Environmental Protection Agency (EPA) that encourages food retailers and manufacturers to adopt cost effective technologies and practices that reduce refrigerant emissions and improve operational efficiency. The GreenChill Program works with the food retail industry to lower barriers inhibiting the implementation of technologies and practices that reduce refrigerant emissions. The Program effectively promotes the adoption of emission reduction practices and technologies by engaging GreenChill Partners to set an annual refrigerant emission reduction goal and develop a refrigerant management plan reflecting the company's implementation objectives. Implementation of the Partners' refrigeration management plan to reduce refrigerant emissions enhances the protection of the environment and may save Partners money and improve operational efficiency. The GreenChill Program offers the opportunity for any individual store to earn GreenChill Certification at the silver, gold, platinum, or other level when it demonstrates that the amount of refrigerant used is below a specified limit, based on the store's million British Thermal Units per hour (MBTU/hr) cooling load, and that the refrigerant emitted from the store in the prior 12 months is below a specified percentage depending on each GreenChill Store Certification level. Information submitted for the certification of individual stores is compared to these set criteria for each certification level. The certification of a store provides the opportunity for broad recognition within the food retail industry and with the store's customers.

Form numbers: 5900-213, 5900-214, 5900-586, 5900-587, 5900-588, 5900-589, 5900-590, 5900-591, 5900-592.

Respondents/affected entities: Entities potentially affected by this action listed under the North American Industry Classification System (NAICS) code for 445110, Supermarkets.

Respondent's obligation to respond: Voluntary.

Estimated number of respondents: 774 (per year).

Frequency of response: Annual, and when desired

Total estimated burden: 5,863 hours (per year). Burden is defined at 5 CFR 1320.03(b)

Total estimated cost: $490,358 (per year), includes $0 annualized capital or operation & maintenance costs.

Changes in the estimates: There is increase of 3,255 hours in the total estimated respondent burden compared with the ICR currently approved by OMB. This increase is primarily due to growth, by a factor of almost four, in the number of stores participating in the Store Certification Program.

Courtney Kerwin,
Director, Regulatory Support Division.

[FR Doc. 2023-06229 Filed 3-24-23; 8:45 am]

BILLING CODE 6560-50-P